DEPARTMENT OF ENERGY

Federal Energy Regulatory Commission

[Docket No. RP00-399-000]

National Fuel Gas Supply Corporation; Notice Rescheduling Technical Conference

November 9, 2000.

Take notice that the conference scheduled for Tuesday, November 14, 2000, at 10 a.m. has been rescheduled.

The conference will be held on Tuesday, December 5, 2000, at 10 a.m. in a room to be designated at the offices of the Federal Energy Regulatory Commission, 888 First Street, NE., Washington, DC 20426.

All interested persons and Staff are permitted to attend.

Linwood A. Watson, Jr.,
Acting Secretary.

[FR Doc. 00-29332 Filed 11-15-00; 8:45 am]

BILLING CODE 6717-01-M